DEPARTMENT OF ENERGY

National Nuclear Security Administration

Agency Information Collection Extension

AGENCY: National Nuclear Security Administration, U.S. Department of Energy.

ACTION: Submission for Office of Management and Budget (OMB) review; comment request.

SUMMARY: The Department of Energy (DOE) has submitted an information collection request to the OMB for an extension under the provisions of the Paperwork Reduction Act of 1995. The information collection request seeks a three-year extension of The American Assured Fuel Supply Program, OMB Control Number 1910-5173. The proposed collection will help determine if applicants have provided sufficient information for the Office of Nonproliferation and Arms Control to evaluate requests of applicants for use of the American Assured Fuel Supply.

DATES: Comments regarding this collection must be received on or before May 12, 2017. If you anticipate that you will be submitting comments, but find it difficult to do so within the period of time allowed by this notice, please advise the OMB Desk Officer of your intention to make a submission as soon as possible. The Desk Officer may be telephoned at 202-395-4718.

ADDRESSES: Written comments should be sent to the DOE Desk Officer, Office of Information and Regulatory Affairs, Office of Management and Budget, New Executive Office Building, Room 10102, 735 17th Street NW., Washington, DC 20503 and to Richard Goorevich, Senior Policy Advisor, Office of Nonproliferation and Arms Control, National Nuclear Security Administration, U.S. Department of Energy, 1000 Independence Ave. SW., Washington, DC 20585, or by fax at 202-586-1348 or by email at richard.goorevich@nnsa.doe.gov.

FOR FURTHER INFORMATION CONTACT: Richard Goorevich, Senior Policy Advisor, Office of Nonproliferation and Arms Control, National Nuclear Security Administration, U.S. Department of Energy, 1000 Independence Ave. SW., Washington, DC 20585, or by fax at 202-586-1348 or by email at richard.goorevich@nnsa.doe.gov.

SUPPLEMENTARY INFORMATION: This information collection request contains: (1) OMB No. 1910-5173; (2) Information Collection Request Title: The American Assured Supply Program; (3) Type of Request: Renewal; (4) Purpose: DOE created the American Assured Fuel Supply (AFS), a reserve of low enriched uranium (LEU) to serve as backup fuel supply for foreign recipients to be supplied through U.S. persons or for domestic recipients, in the event of fuel supply disruption. DOE is committed to making the AFS available to eligible recipients in the case of supply disruptions in the nuclear fuel market. This effort supports the United States Government's nuclear nonproliferation objectives by supporting civilian nuclear energy development while minimizing proliferation risks. DOE published a Notice of Availability for AFS on August 18, 2011, and published an application on December 2, 2013, in the Federal Register to standardize the information that must be provided in a request to access the material in the AFS as set forth in the Notice of Availability. 76 FR 51357, 51358. This application form is necessary in order for DOE to identify if applicants meet basic requirements for use of the AFS and implement this important nonproliferation initiative; (5) Annual Estimated Number of Respondents: 10; (6) Annual Estimated Number of Total Responses: 10; (7) Annual Estimated Number of Burden Hours: 8; (8) Annual Estimated Reporting and Recordkeeping Cost Burden: $1,800.

Statutory Authority: The Secretary of Energy is authorized pursuant to the Atomic Energy Act of 1954, as amended (Pub. L. 83-703), and the Nuclear Non-Proliferation Act of 1978 (NNPA) (Pub. L. 95-242) to encourage the widespread use of atomic energy for peaceful purposes, and to cooperate with other nations by distributing nuclear material where appropriate safeguards measures are in place to ensure the material is properly controlled and used for peaceful purposes. In 2005, DOE set aside a portion of its LEU inventory to be used to support the International Atomic Energy Agency's (IAEA) International Nuclear Fuel Bank (INFB) initiative, which is envisioned as an LEU reserve that will be administered by the IAEA and that will serve as a back-up for global supply disruptions. Congress later appropriated $49,540,000 in the Consolidated Appropriations Act, 2008 (Pub. L. 110-161) to fund a portion of the INFB. Congress, in the Explanatory Statement accompanying the House Appropriations Committee Print (which in the Act was given the same effect as a joint explanatory statement), noted that the INFB freed up DOE's LEU set-aside, and recommended DOE also “allow U.S. interests to purchase uranium fuel from the Reliable Fuel Supply [now the AFS] in the event of supply disruption.” (H. Approp. Cmte. Print at 592.)

The sale of LEU from the AFS will be conducted consistent with applicable law, the policies and guidance in the “Secretary of Energy's 2008 Policy Statement of Management of the Department of Energy's Excess Uranium Inventory” (March 11, 2008), and the DOE Excess Uranium Inventory Management Plan.

Issued in Washington, DC on March 31, 2017.
David Huizenga,
Acting Deputy Administrator, Defense Nuclear Nonproliferation, National Nuclear Security Administration.

[FR Doc. 2017-07384 Filed 4-11-17; 8:45 am]

BILLING CODE 6450-P